DEPARTMENT OF ENERGY

Federal Energy Regulatory Commission

[Project No. 4093-036]

Bynum Hydro Company, PK Ventures I Limited Partnership; Notice of Application for Transfer of License and Soliciting Comments, Motions to Intervene, and Protests

On January 16, 2015, Commission staff directed PK Ventures I Limited Partnership (PK Ventures) to file documentation of project ownership and an application to transfer the license for the Bynum Project No. 4093 from Bynum Hydro Company, the licensee of record, to PK Ventures, the owner of the project facilities. On February 18, 2015, PK Ventures filed a response, including among other things, documentation of its ownership of the project and a copy of an earlier filing with the Commission in which it seeks to transfer the license from Bynum Hydro to it. The project is located on the Haw River in Chatham County, North Carolina.

Contact: Mr. Robert L. Rose, PK Ventures I Limited Partnership, P.O. Box 35236, Sarasota, FL 34242; Phone: (941) 312-0303; Email: tampapc@outlook.com.

FERC Contact: Patricia W. Gillis, (202) 502-8735.

Deadline for filing comments, motions to intervene, and protests: 30 days from the date that the Commission issues this notice. The Commission strongly encourages electronic filing. Please file motions to intervene, comments, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE., Washington, DC 20426. The first page of any filing should include docket number P-4093-036.

Dated: June 9, 2015.
Kimberly D. Bose,
Secretary.

[FR Doc. 2015-15291 Filed 6-22-15; 8:45 am]

BILLING CODE 6717-01-P